DEPARTMENT OF HOUSING AND URBAN DEVELOPMENT

[Docket No. FR-4650-N-4]

Notice of Submission of Proposed Information Collection to OMB; Public Housing Assessment System (PHAS) Memorandum of Agreement (MOA) and Improvement Plan (IP)

AGENCY: Office of the Chief Information Officer, HUD.

ACTION: Notice.

SUMMARY: The proposed information collection requirement described below has been submitted to the Office of Management and Budget (OMB) for review, as required by the Paperwork Reduction Act. The Department is soliciting public comments on the subject proposal.

DATES: Comments Due Date: July 23, 2001.

ADDRESSES: Interested persons are invited to submit comments regarding this proposal. Comment should refer to the proposal by name and/or OMB approval number and should be sent to: Joseph F. Lackey, Jr., OMB Desk Officer, Office of Management and Budget, Room 10235, New Executive Office Building, Washington, DC 20503.

FOR FURTHER INFORMATION CONTACT: Wayne Eddins, Reports Management Officer, Q, Department of Housing and Urban Development, 451 Seventh Street, Southwest, Washington, DC 20410; e-mail Wayne_Eddins@HUD.gov; telephone (202) 708-2374. This is not a toll-free number. Copies of the proposed forms and other available documents submitted to OMB may be obtained from Mr. Eddins.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what member of the public will be affected by the proposal; (7) how frequently information submissions will be required; (8) an estimate of the total numbers of hours needed to prepare the information submission including number of respondents, frequency of response, and hours of response; (9) whether the proposal is new, an extension, reinstatement, or revision of an information collection requirement; and (10) the name and telephone number of an agency official familiar with the proposal and of the OMB Desk Officer for the Department.

This Notice also lists the following information:

Title of Proposal: Public Housing Assessment System (PHAS) Memorandum of Agreement (MOA) and Improvement Plan (IP).

OMB Approval Number: 2577-XXXX.

Form Numbers: None.

Description of the need for the information and its proposed use: A Public Housing Agency (PHA) which is designated troubled or substandard under the Public Housing Assessment System (PHAS) must enter into a Memorandum of Agreement (MOA) with HUD to outline its planned improvement. Similarly, a PHA which is a standard performer, but receive a total PHAS score of less than 70% but not less than 60% if required to submit an improvement Plan (IP). These plans are designed to address deficiencies in a PHA's operations fund through the PHAS assessment process (management, financial, physical, or resident related) and any other deficiencies identified by HUD through independent assessments or other methods.

Respondents: State, Local or Tribal Government.

Frequency of Submission: Quarterly.

Reporting Burden:

Number of respondents | x | Frequency of response | x | Hours per response | = | Burden hours
939 |  | 1 |  | 36.2 |  | 34,026

Total Estimated Burden Hours: 34,026.

Status: New Collection.

Authority: Section 3507 of the Paperwork Reduction Act of 1995, 44 U.S.C. 35, as amended.

Dated: June 5, 2001.
Wayne Eddins,
Departmental Reports Management Officer, Office of the Chief Information Officer.

[FR Doc. 01-15686 Filed 6-21-01; 8:45 am]

BILLING CODE 4210-72-M